DEPARTMENT OF TRANSPORTATION

National Highway Traffic Safety Administration

[Docket No. NHTSA-2020-0112; Notice 1]

FCA US LLC, Receipt of Petition for Decision of Inconsequential Noncompliance

AGENCY: National Highway Traffic Safety Administration (NHTSA), Department of Transportation (DOT).

ACTION: Receipt of petition.

SUMMARY: FCA US LLC (f/k/a Chrysler Group LLC) “FCA US” has determined that certain Mopar rear brake hoses for use in model year (MY) 2019-2020 Ram 4500/5500 Cab Chassis motor vehicles and sold as replacement parts to FCA US dealers do not fully comply with Federal Motor Vehicle Safety Standard (FMVSS) No. 106, Brake Hoses. FCA US filed two noncompliance reports, both dated October 22, 2020. FCA US subsequently petitioned NHTSA on November 13, 2020, for a decision that the subject noncompliance is inconsequential as it relates to motor vehicle safety. This document announces receipt of FCA US's petition.

DATES: Send comments on or before April 22, 2021.

ADDRESSES: Interested persons are invited to submit written data, views, and arguments on this petition. Comments must refer to the docket and notice number cited in the title of this notice and be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000, (65 FR 19477-78).

SUPPLEMENTARY INFORMATION:

I. Overview

FCA US LLC (f/k/a Chrysler Group LLC) “FCA US” has determined that certain Mopar rear brake hoses for use in model year (MY) 2019-2020 Ram 4500/5500 Cab Chassis motor vehicles and sold as replacement parts to FCA US dealers do not fully comply with paragraph S5.3.1 of FMVSS No. 106, Brake Hoses (49 CFR 571.106). FCA US filed two noncompliance reports, both dated October 22, 2020, pursuant to 49 CFR 573, Defect and Noncompliance Responsibility and Reports. FCA US subsequently petitioned NHTSA on November 13, 2020, for an exemption from the notification and remedy requirements of 49 U.S.C. chapter 301 on the basis that this noncompliance is inconsequential as it relates to motor vehicle safety, pursuant to 40 U.S.C. 30118 and 49 U.S.C. 30120, Exemption for Inconsequential Defect or Noncompliance.

This notice of receipt of FCA US's petition is published under 49 U.S.C. 30118 and 30120 and does not represent any Agency decision or other exercise of judgment concerning the merits of the petition.

II. Vehicles and Equipment Involved

Approximately 26,961 MY 2019-2020 Ram 4500/5500 Cab Chassis motor vehicles, manufactured between February 10, 2019, and August 26, 2020, and approximately 182 Mopar right rear brake hose replacement parts having part numbers 68371722AA and 68371722AB, and left rear brake hose replacement parts having part numbers 68371723AA and 68371723AB, manufactured between January 29, 2019, and August 26 2020, are potentially involved.

III. Noncompliance

FCA US explains that the noncompliance is that the inside diameter in certain Mopar rear brake hoses equipped in certain model year (MY) 2019-2020 Ram 4500/5500 Cab Chassis motor vehicles and sold to FCA US dealers as replacement parts do not meet the required 64 percentage of the nominal inside diameter of the brake hose and therefore do not fully comply with paragraph S5.3.1 of FMVSS No. 106. Specifically, FCA says that in the worst-case scenario, parts measured 52.8 percent of the nominal inside diameter.

IV. Rule Requirements

Paragraph S5.3.1 of FMVSS No. 106 provides that except for that part of an end fitting which does not contain hose, every inside diameter of any section of a hydraulic brake hose assembly shall be not less than 64 percent of the nominal inside diameter of the brake hose.

V. Summary of FCA US's Petition

The following views and arguments presented in this section, V. Summary of FCA US's Petition, are the views and arguments provided by FCA US. They have not been evaluated by the Agency and do not reflect the views of the Agency.

FCA US described the subject noncompliance and stated that the noncompliance is inconsequential as it relates to motor vehicle safety. FCA US submitted the following views and arguments in support of the petition:

1. FCA states that it has completed testing showing that, in this particular circumstance, there is no safety concern with the noncompliant brake hose assemblies that were built with an under-specification orifice size. FCA further claims that the testing shows there is no concern for hose rupture and no risk of brake system failure due to pressure loss. Testing also shows there is no meaningful effect on vehicle braking performance built with the noncompliant brake hose assemblies.

2. FCA claims that the Ram 4500/5500 Cab Chassis vehicle achieves no more than 2,500 pounds per square inch (PSI) in the brake hose assemblies when performing FMVSS No. 105 testing for stopping distance. FMVSS No. 106 specifies a minimum burst strength requirement of 7,000 PSI for brake hoses of 1/8″ or smaller diameter. (The subject brake hoses have a diameter of 1/8″.) The FCA internal specification requires the supplier to perform burst testing daily, and the minimum requirement that all hose assemblies must meet is 9,000 PSI under the FMVSS No. 106 test conditions. The brake hose assemblies containing an out of specification orifice all surpassed the requirement and showed no difference from those containing a compliant orifice.

3. FCA believes that the viscosity of brake fluid at colder temperatures increases, thus, the flow rate of brake fluid will be reduced at colder temperatures, making cold temperature testing the worst-case scenario. The Ram 4500/5500 Cab Chassis vehicle brake hose assemblies containing an out of specification orifice and those with a compliant orifice were tested for flow at ambient and at cold temperature. The cold temperature test included an overnight soak at −30° C. The test was conducted using a panic brake application of 500 Newtons in 0.5 seconds per FMVSS No. 105 pedal force requirements and then held for an additional 5 seconds to ensure fluid flow to the wheel end. The compliant and noncompliant brake hose assemblies showed no meaningful difference in the time they each took to reach 50 bar and 100 bar at either ambient or cold.

4. FCA tested the Ram 4500/5500 Cab Chassis vehicle for stopping distance according to FMVSS No. 105 testing procedures for vehicles over 10,000 pounds (“lbs.”) Gross Vehicle Weight, which is the worst-case scenario. The test was conducted on a vehicle that was slowed from a speed of 60 mph with a maximum pedal effort of 150 lbs. to determine if it could meet the required stopping distance requirements. The test was conducted six times, and FCA focused on second effectiveness and third effectiveness results. The best distance was used to calculate the Best Stop Percentage Margin. The test results showed no meaningful difference between the second effectiveness and the third effectiveness government specifications or the more stringent FCA internal stopping requirements between a brake hose with an out of specification orifice and a brake hose with a compliant orifice. FCA completed two tests with brake hose assemblies with compliant orifice sizes and one test with the subject out of specification orifice size.

5. FCA is not aware of any crashes, injuries, or customer complaints associated with the condition.

FCA concludes by again contending that the subject noncompliance is inconsequential as it relates to motor vehicle safety, and that its petition to be exempted from providing notification of the noncompliance, as required by 49 U.S.C. 30118, and a remedy for the noncompliance, as required by 49 U.S.C. 30120, be granted.

FCA's complete petition and all supporting documents, including details of test results, are available by logging onto the Federal Docket Management System (FDMS) website at: https://www.regulations.gov and by following the online search instructions to locate the docket number as listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles and equipment that FCA no longer controlled at the time it determined that the noncompliance existed. However, any decision on this petition does not relieve vehicle distributors and dealers of the prohibitions on the sale, offer for sale, or introduction or delivery for introduction into interstate commerce of the noncompliant vehicles and equipment under their control after FCA notified them that the subject noncompliance existed.

Authority: 49 U.S.C. 30118, 30120: delegations of authority at 49 CFR 1.95 and 501.8

Otto G. Matheke III,
Director, Office of Vehicle Safety Compliance.

[FR Doc. 2021-05922 Filed 3-22-21; 8:45 am]

BILLING CODE 4910-59-P